JUDICIAL CONFERENCE OF THE UNITED STATES

Advisory Committees on Appellate, Bankruptcy, and Evidence Rules; Hearings of the Judicial Conference

AGENCY: Judicial Conference of the United States.

ACTION: Advisory Committees on Appellate, Bankruptcy, and Evidence Rules; notice of proposed amendments and open hearings.

DATES: All written comments and suggestions with respect to the proposed amendments may be submitted on or after the opening of the period for public comment on August 15, 2024, but no later than February 17, 2025.

ADDRESSES: Written comments must be submitted electronically, following the instructions provided on the website. Comments will be posted on the website and available to the public.

Public hearings either virtually or in person are scheduled on the proposed amendments as follows:

• Appellate Rules on January 10, 2025, and February 14, 2025;

• Bankruptcy Rules on January 17, 2025, and January 31, 2025; and

• Evidence Rule on January 22, 2025, and February 12, 2025.

Those wishing to testify must contact the Secretary of the Committee on Rules of Practice and Procedure by email at: RulesCommittee_Secretary@ao.uscourts.gov, at least 30 days before the hearing.

FOR FURTHER INFORMATION CONTACT: H. Thomas Byron III, Esq., Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

SUPPLEMENTARY INFORMATION: The Advisory Committees on Appellate, Bankruptcy, and Evidence Rules have proposed amendments to the following rules:

• Appellate Rules 29 and 32, Appendix on Length Limits, and Form 4;

• Bankruptcy Rules 1007, 3018, 5009, 9006, 9014, 9017, new Rule 7043, and Official Form 410S1; and

• Evidence Rule 801.

The text of the proposals will be posted August 15, 2024, on the Judiciary's website at: https://www.uscourts.gov/rules-policies/proposed-amendments-published-public-comment.

(Authority: 28 U.S.C. 2073.)

Dated: July 25, 2024.
Shelly L. Cox,
Management Analyst, Rules Committee Staff.

[FR Doc. 2024-16773 Filed 7-30-24; 8:45 am]

BILLING CODE 2210-55-P